DEPARTMENT OF ENERGY

Federal Energy Regulatory Commission

[Project No. 15269-000]

Premium Energy Holdings, LLC; Notice of Preliminary Permit Application Accepted for Filing and Soliciting Comments, Motions To Intervene, and Competing Applications

On March 31, 2022, Premium Energy Holdings, LLC filed an application for a preliminary permit, pursuant to section 4(f) of the Federal Power Act (FPA), proposing to study the feasibility of the Nacimiento Pumped Storage Hydro Project to be located approximately 27 miles northwest of Highway 101 in Paso Robles, California in San Luis Obispo County. The sole purpose of a preliminary permit, if issued, is to grant the permit holder priority to file a license application during the permit term. A preliminary permit does not authorize the permit holder to perform any land-disturbing activities or otherwise enter upon lands or waters owned by others without the owners' express permission.

The proposed closed-loop project would consist of the following: (1) a new upper reservoir at a normal maximum operating elevation of either 1,952 feet average mean sea level, with a surface area of 85 acres and a total storage capacity of 7,500 acre-feet (alternative A), or 1,788 feet average mean sea level, with a surface area of 72 acres and a total storage capacity of 8,000 acre-feet (alternative B); (2) an existing lower reservoir (Lake Nacimiento, completed in 1956 for flood control, irrigation water, groundwater recharge for the Salinas Valley, and recreational activities); (3) either a 0.74 mile-long headrace tunnel, 0.17-mile-long vertical shaft, 5.13-mile-long horizontal tunnel, 0.07-mile-long penstock, and 1.06-mile-long tailrace tunnel with a maximum head of 987 feet (alternative A), or a 0.42-mile-long headrace tunnel, 0.10-mile-long vertical shaft, 2.93-mile-long horizontal tunnel, 0.04-mile-long penstock, and-0.61 mile long tailrace tunnel with a maximum head of 1,151 feet (alternative B) connecting the reservoirs to the powerhouse; (4) a new powerhouse located on land owned by the County of Monterey that would house 4 new pump-turbines rated at 150 megawatts each; (5) a new substation constructed in the southern shore of Lake Nacimiento near the powerhouse connected to the regional electrical utility with either; (6) a new 21-mile-long 230-kilovolt (kV) transmission line interconnecting at the existing 60-kV Perry Substation (existing lines would be upgraded to 230-kV, as required) (alternative 1) or a new 26-mile-long 230-kV transmission line interconnecting PG&E's network at the existing 60-kV Paso Robles Substation (existing lines would be upgraded to 230-kV as required) (alternative 2), or a new 28-mile-long 230-kV transmission line interconnecting PG&E's network at the existing 230-kV Templeton Substation (no upgrades necessary) (alternative 3); and (7) appurtenant facilities. The estimated annual power generation at the Nacimiento Pumped Storage Project would be 1,200,000 megawatt-hours.

Applicant Contact: Victor M. Rojas, Managing Director, Premium Energy Holdings, LLC. 355 South Lemon Ave., Suite A, Walnut, California 91789; phone: (909) 595-5314; victor.rojas@pehllc.net.

FERC Contact: Benjamin Mann; email: benjamin.mann@ferc.gov; phone: (202) 502-8127.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15269.

More information about this project, including a copy of the application, can be viewed or printed on the “eLibrary” link of Commission's website at http://www.ferc.gov/docs-filing/elibrary.asp. Enter the docket number (P-15269) in the docket number field to access the document. For assistance, contact FERC Online Support.

Dated: January 19, 2023.
Kimberly D. Bose,
Secretary.

[FR Doc. 2023-01490 Filed 1-25-23; 8:45 am]

BILLING CODE 6717-01-P